DEPARTMENT OF STATE

[Public Notice: 11170]

Department of State FY 2018 & FY 2017 Service Contract Inventory

AGENCY: Department of State.

ACTION: Notice of release of the Department of State's FY 2018 & FY 2017 Service Contract Inventory.

SUMMARY: Acting in compliance with Section 743 of Division C of the Consolidated Appropriations Act of 2010, the Department of State is publishing this notice to advise the public of the availability of the FY 2018 & FY 2017 Service Contract Inventory. The FY 2018 Service Contract Inventory includes the FY 2018 Planned Analysis, and the FY 2017 Meaningful Analysis. The FY 2017 Service Contract Inventory includes the FY 2017 Planned Analysis, and the FY 2016 Meaningful Analysis. The inventory was developed in accordance with guidance issued by the Office of Management and Budget (OMB), Office of Federal Procurement Policy (OFPP).

DATES: The inventory is available on the Department's website as of July 14, 2020.

ADDRESSES: The Department of State has posted its FY 2018 & FY 2017 Service Contract Inventory at the following link: https://csm.state.gov/index2.html.

FOR FURTHER INFORMATION CONTACT: Marlon D. Henry, Management and Program Analyst, A/EX/CSM, 202-485-7210, HenryMD@state.gov.

Marlon D. Henry,
Management and Program Analyst, Bureau of Administration, Collaborative Strategy and Management Division, Department of State.

[FR Doc. 2020-16136 Filed 7-24-20; 8:45 am]

BILLING CODE 4710-24-P